DEPARTMENT OF COMMERCE

National Oceanic and Atmospheric Administration

RIN 0648-XO22

Endangered Species; File No. 1506

AGENCY: National Marine Fisheries Service (NMFS), National Oceanic and Atmospheric Administration (NOAA), Commerce.

ACTION: Notice; issuance of permit modification.

SUMMARY: Notice is hereby given that Blair E. Witherington, Ph.D., Florida Fish and Wildlife Conservation Commission, Fish and Wildlife Research Institute, Melbourne Beach Field Laboratory, 9700 South A1A, Melbourne Beach, FL 32951, has been issued a modification to scientific research Permit No. 1506-01.

ADDRESSES: The modification and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Amy Hapeman or Patrick Opay, (301)713-2289.

SUPPLEMENTARY INFORMATION: On November 26, 2008, notice was published in the Federal Register (73 FR 72027) that a modification of Permit No. 1506-01, issued June 1, 2006 (71 FR 31165), had been requested by the above-named individual. The requested modification has been granted under the authority of the Endangered Species Act of 1973, as amended (ESA; 16 U.S.C. 1531 et seq.) and the regulations governing the taking, importing, and exporting of endangered and threatened species (50 CFR parts 222-226).

Permit No. 1506-01 authorizes the permit holder to study neonate and juvenile loggerhead (Caretta caretta), green (Chelonia mydas), Kemp's ridley (Lepidochelys kempii), hawksbill (Eretmochelys imbricata) and leatherback (Dermochelys coriacea) sea turtles in the waters of the Gulf of Mexico and the Atlantic Ocean off the coast of Florida. The purpose of the research is to identify developmental habitat, evaluate the extent of ingestion of marine debris, and provide insight into juvenile sea turtle movements and dive patterns. Dr. Witherington may capture up to 250 loggerhead, 100 green, 50 hawksbill, 50 Kemp's ridley, and 10 leatherback sea turtles by handheld dip nets annually. All turtles are measured and released. A subset of green and loggerhead turtles may be transported to a lab and examined with high resolution magnetic resonance interferometry or computerized tomography, held for 3-4 days and released to determine their level of anthropogenic debris ingestion. Annually, four of each species of green, hawksbill, and Kemp's ridley sea turtles may have sonic transmitters and data loggers attached to measure movements and dive patterns, be recaptured after 24 hours to remove the transmitter and released.

The modification authorizes researchers to conduct the following activities annually on turtles authorized for capture: flipper and passive integrated transponder tag all animals, biopsy sample up to 100 loggerhead, 100 green, and 50 hawksbill sea turtles, and lavage up to 50 loggerhead, 50 green, 50 hawksbill, 50 Kemp's ridley, and 10 leatherback sea turtles. Imaging activities and attachment of sonic transmitters and data loggers are no longer authorized for any species. No increase in the total number of turtles taken is authorized. These additional activities will provide information on the genetic origin, diet, and movement of sea turtles in this area. The amendment is valid until the permit expires on March 31, 2010.

Issuance of this modification, as required by the ESA was based on a finding that such permit (1) was applied for in good faith, (2) will not operate to the disadvantage of such endangered or threatened species, and (3) is consistent with the purposes and policies set forth in section 2 of the ESA.

Dated: June 16, 2009.
P. Michael Payne,
Chief, Permits, Conservation and Education Division, Office of Protected Resources, National Marine Fisheries Service.

[FR Doc. E9-14608 Filed 6-19-09; 8:45 am]

BILLING CODE 3510-22-S